NATIONAL AERONAUTICS AND SPACE ADMINISTRATION

[Notice 04-085]

NASA Advisory Council, Space Science Advisory Committee; Meeting

AGENCY: National Aeronautics and Space Administration (NASA).

ACTION: Notice of meeting.

SUMMARY: In accordance with the Federal Advisory Committee Act, Public Law 92-463, as amended, the National Aeronautics and Space Administration announces a forthcoming meeting of the NASA Advisory Council (NAC), Space Science Advisory Committee (SScAC).

DATES: Wednesday, July 28, 2004, 1 p.m. to 5:30 p.m., Thursday, July 29, 2004, 8:30 a.m. to 5:30 p.m., and Friday, July 30, 2004, 8:30 a.m. to Noon.

ADDRESSES: Shelter Pointe Hotel and Marina, 1551 Island Drive, San Diego, CA 92106.

FOR FURTHER INFORMATION CONTACT: Ms. Marian R. Norris, Office of Space Science, National Aeronautics and Space Administration, Washington, DC 20546, (202) 358-4452.

SUPPLEMENTARY INFORMATION: The meeting will be open to the public up to the capacity of the room. The agenda for the meeting includes the following topics:

• Program Overview Status

• Subcommittee Reports

• Report on Explorer Program Phasing

• Status of Space Science Education and Public Outreach Programs

• Sounding Rockets Program Status

• Annual Review of Science Achievements for FY 2004 Government Performance Results Act Performance Report

• Update on NASA Reorganization

It is imperative that the meeting be held on these dates to accommodate the scheduling priorities of the key participants. Visitors to the meeting will be requested to sign a visitor's register.

R. Andrew Falcon,
Advisory Committee Management Officer, National Aeronautics and Space Administration.

[FR Doc. 04-16065 Filed 7-14-04; 8:45 am]

BILLING CODE 7510-01-P